DEPARTMENT OF ENERGY

Federal Energy Regulatory Commission

Combined Notice of Filings #1

February 25, 2010.

Take notice that the Commission received the following electric rate filings:

Docket Numbers: ER99-3822-017; ER01-140-013; ER01-141-013; ER03-42-018; ER05-1266-011; ER07-842-007; ER09-629-006; ER99-4160-022.

Applicants: Casco Bay Energy Company, LLC; Dynegy Danskammer, LLC; Dynegy Roseton, LLC; Sithe/Independence Power Partners, L.P.; Ontelaunee Power Operating Company, LLC; Dynegy Kendall Energy, LLC; Dynegy Marketing and Trade, LLC; Dynegy Power Marketing, Inc.

Description: Notice of Change in Status of Casco Bay Energy Company, LLC, et al. and Request to File Out of Time.

Filed Date: 02/22/2010.

Accession Number: 20100222-5143.

Comment Date: 5 p.m. Eastern Time on Monday, March 15, 2010.

Docket Numbers: ER07-125-001.

Applicants: Keystone Energy Partners, LP.

Description: Keystone Energy Partners, LP submits the Updated Market Power Analysis.

Filed Date: 02/24/2010.

Accession Number: 20100224-0063.

Comment Date: 5 p.m. Eastern Time on Monday, April 26, 2010.

Docket Numbers: ER07-1358-013; ER00-2885-028; ER01-2765-027; ER02-2102-027; ER03-1283-022; ER05-1232-023; ER07-1112-012; ER07-1113-012; ER07-1116-011; ER07-1117-014; ER07-1118-013; ER07-1356-014; ER09-1141-007; ER09-609-005.

Applicants: BE Louisiana LLC; Cedar Brakes I LLC; Cedar Brakes II, LLC; Utility Contract Funding, LLC; Vineland Energy LLC; J.P. Morgan Ventures Energy Corporation; BE Allegheny LLC; BE CA LLC; BE Ironwood LLC; BE KJ LLC; BE Rayle LLC; BE Alabama LLC; J.P. Morgan Commodities Canada Corporation; Central Power & Lime LLC.

Description: Notice of Non-Material Change in Status of J.P. Morgan Ventures Energy Corporation, Pursuant to Order 697-C.

Filed Date: 02/01/2010.

Accession Number: 20100201-5023.

Comment Date: 5 p.m. Eastern Time on Monday, March 08, 2010.

Docket Numbers: ER10-305-001.

Applicants: Xcel Energy Services Inc.

Description: Xcel Energy Services, Inc submits revised rate sheets to properly reflect the effective date of PSCo's Electric Coordination Service Tariff.

Filed Date: 02/19/2010.

Accession Number: 20100219-0218.

Comment Date: 5 p.m. Eastern Time on Friday, March 12, 2010.

Docket Numbers: ER10-374-002.

Applicants: Medicine Bow Power Partners, LLC.

Description: Medicine Bow Power Partners, LLC submits Refund Report.

Filed Date: 02/22/2010.

Accession Number: 20100222-0228.

Comment Date: 5 p.m. Eastern Time on Monday, March 15, 2010.

Docket Numbers: ER10-559-002.

Applicants: Midwest Independent Transmission System Operator, Inc.

Description: Midwest Independent Transmission System Operator, Inc submits errata filing of amendment to amended and restated interconnection and operating agreement.

Filed Date: 02/24/2010.

Accession Number: 20100224-0211.

Comment Date: 5 p.m. Eastern Time on Wednesday, March 17, 2010.

Docket Numbers: ER10-587-001.

Applicants: Fortis Energy Marketing & Trading GP.

Description: Fortis Energy Marketing and Trading GP submits Substitute Original Sheet 1 et al. to FERC Electric Tariff, Original Volume 1, First Revised Volume 1.

Filed Date: 02/24/2010.

Accession Number: 20100225-0201.

Comment Date: 5 p.m. Eastern Time on Wednesday, March 17, 2010.

Docket Numbers: ER10-726-000.

Applicants: DPL Energy Resources, Inc.

Description: DPL Energy Resources, Inc submits an application for market based rate authorization and request for waivers and blanket approvals.

Filed Date: 02/18/2010.

Accession Number: 20100219-0213.

Comment Date: 5 p.m. Eastern Time on Thursday, March 11, 2010.

Docket Numbers: ER10-735-000.

Applicants: S.J. Energy Partners, Inc.

Description: S.J. Energy Partners, Inc Petition for Acceptance of Initial Tariff, Waivers and Blanket Authorization, Rate Schedule FERC 1, to be effective 4/20/10.

Filed Date: 02/18/2010.

Accession Number: 20100219-0212.

Comment Date: 5 p.m. Eastern Time on Thursday, March 11, 2010.

Docket Numbers: ER10-770-000.

Applicants: CCES LLC.

Description: CCES LLC submits the Petition for Acceptance of Initial Rate Schedule, Waivers and Blanket Authority.

Filed Date: 02/19/2010.

Accession Number: 20100222-0227.

Comment Date: 5 p.m. Eastern Time on Friday, March 12, 2010.

Docket Numbers: ER10-775-000.

Applicants: California Independent System Operator Corporation.

Description: California Independent System Operator Corporation submits amendments to the ISO's FERC Electric Tariff.

Filed Date: 02/12/2010.

Accession Number: 20100219-0005.

Comment Date: 5 p.m. Eastern Time on Friday, March 05, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-4639 Filed 3-4-10; 8:45 am]

BILLING CODE 6717-01-P